SOCIAL SECURITY ADMINISTRATION

Future Systems Technology Advisory Panel

[Docket No. SSA-2008-0012]

Establishment of the Future Systems Technology Advisory Panel

AGENCY: Social Security Administration (SSA).

ACTION: Establishment of the Future Systems Technology Advisory Panel.

SUMMARY: The Commissioner of Social Security is establishing the Future Systems Technology Advisory Panel under the provisions of the Federal Advisory Committee Act (FACA). In making this decision, the Commissioner has found that the Panel is necessary and in the public interest. It will contribute to the performance of duties imposed upon SSA in carrying out its statutory mission. The Commissioner consulted with the Committee Management Secretariat, General Services Administration (GSA).

FOR FURTHER INFORMATION CONTACT: Dianne Rose, Designated Federal Official, Future Systems Technology Advisory Panel, Social Security Administration, by:

• Mail addressed to SSA, Future Systems Technology Advisory Panel, Room 800, Altmeyer Building, 6401 Security Boulevard, Baltimore, MD 21235-0001;

• Telephone at 410-965-9455;

• Fax at 410-965-0210; or

• E-mail to dianne.rose@ssa.gov.

SUPPLEMENTARY INFORMATION: Panel members will analyze SSA's current technology status and provide independent advice and recommendations for future systems enhancements based on their knowledge of the needs of the Agency and technological advancements. This will serve as a road map for the Agency in determining what future systems technologies may be developed. It will help SSA carry out its statutory mission. Advice and recommendations can relate to SSA's systems in the area of internet applications, customer service, or any other arena that would improve the Agency's ability to serve the American people.

The Panel shall be composed of not more than 12 members, including:

(1) Members of academia and private industry recognized as experts in the area of future computer systems technology;

(2) Members of private industry familiar with the use of computer technology in the fields of customer service, health care, privacy, financial, and document management;

(3) Experts that can speak to the needs of SSA's clientele; and

(4) SSA experts familiar with the Agency's policies, systems, and practices with regard to its mission.

The Panel will be terminated two years after the effective date unless otherwise renewed. In accordance with the FACA, an additional notice will be published in the Federal Register announcing the Panel's first meeting.

Dated: April 24, 2008.
Michael J. Astrue,
Commissioner of Social Security.

[FR Doc. E8-9574 Filed 4-30-08; 8:45 am]

BILLING CODE 4191-02-P